DEPARTMENT OF LABOR

Occupational Safety and Health Administration

[Docket No. NRTL1-93]

Wyle Laboratories, Inc.; Application for Renewal of Recognition

AGENCY: Occupational Safety and Health Administration (OSHA), Labor.

ACTION: Notice.

SUMMARY: This notice announces the application of Wyle Laboratories, Inc. (WL) for renewal of its recognition and presents the Agency's preliminary finding to grant this request for renewal. This preliminary finding does not constitute an interim or temporary approval of the renewal application.

DATES: You must submit information or comments, or any request for extension of the time to comment, by the following dates:

• Hard copy: postmarked or sent by September 1, 2006.

• Electronic transmission or facsimile: sent by September 1, 2006.

ADDRESSES: You may submit information or comments to this notice—identified by docket number NRTL1-93—by any of the following methods:

• Federal eRulemaking Portal: http://www.regulations.gov. Follow the instructions for submitting comments.

• OSHA Web site: http://ecomments.osha.gov. Follow the instructions for submitting comments on OSHA's Web page.

• Fax: If your written comments are 10 pages or fewer, you may fax them to the OSHA Docket Office at (202) 693-1648.

• Regular mail, express delivery, hand delivery and courier service: Submit three copies to the OSHA Docket Office, Docket No. NRTL1-93, U.S. Department of Labor, 200 Constitution Avenue, NW., Room N-2625, Washington, DC 20210; telephone (202) 693-2350. (OSHA's TTY number is (877) 889-5627). OSHA Docket Office hours of operation are 8:15 a.m. to 4:45 p.m., EST.

Instructions: All comments received will be posted without change to http://dockets.osha.gov, including any personal information provided. OSHA cautions you about submitting personal information such as social security numbers and birth dates.

Docket: For access to the docket to read background documents or comments received, go to http://dockets.osha.gov. Contact the OSHA Docket Office for information about materials not available through the OSHA Web page and for assistance in using the Web page to locate docket submissions.

Extension of Comment Period: Submit requests for extensions concerning this notice to the Office of Technical Programs and Coordination Activities, NRTL Program, Occupational Safety and Health Administration, U.S. Department of Labor, 200 Constitution Avenue, NW., Room N-3655, Washington, DC 20210. Or fax to (202) 693-1644.

FOR FURTHER INFORMATION CONTACT: Director, Office of Technical Programs and Coordination Activities, NRTL Program, Occupational Safety and Health Administration, U.S. Department of Labor, 200 Constitution Avenue, NW., Room N-3655, Washington, DC 20210, or phone (202) 693-2110.

SUPPLEMENTARY INFORMATION:

Notice of Renewal Application

The Occupational Safety and Health Administration (OSHA) hereby gives notice that Wyle Laboratories, Inc. (WL) has applied for renewal of its recognition as a Nationally Recognized Testing Laboratory (NRTL). The WL renewal request covers its existing scope of recognition, except as noted below. OSHA's current scope of recognition for WL may be found in the following informational Web page: http://www.osha.gov/dts/otpca/nrtl/wl.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” ¹ by the NRTL to meet OSHA standards that require testing and certification.

¹ Properly certified means, in part, that the product is labeled or marked with the NRTL's “registered” certification mark (i.e., the mark the NRTL uses for its NRTL work) and that the product certification falls within the scope of recognition of the NRTL.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope. We maintain an informational Web page for each NRTL, which details its scope of recognition. These pages can be accessed from our Web site at http://www.osha.gov/dts/otpca/nrtl/index.html.

The most recent notice published by OSHA specifically related to WL recognition granted renewal of its NRTL status, which became effective as noted below. However, OSHA issued a notice to modify the scope of a number of NRTLs to replace or delete withdrawn test standards (70 FR 11273, March 8, 2005). WL was one of those NRTLs.

The current address of the WL facility already recognized by OSHA is: Wyle Laboratories, Inc., 7800 Highway 20 West, P.O. Box 077777, Huntsville, AL 35807.

General Background on the Renewal Application

Wyle Laboratories, Inc. (WL) initially received OSHA recognition as a Nationally Recognized Testing Laboratory on July 22, 1994 (59 FR 37509) for a five-year period ending on July 22, 1999. Appendix A to 29 CFR 1910.7 stipulates that the period of recognition of an NRTL is five years and that an NRTL may renew its recognition by applying not less than nine months, nor more than one year, before the expiration date of its current recognition. NRTLs submitting requests within this allotted time period retain their recognition during OSHA's renewal process. WL submitted the required request and received its first renewal of recognition on June 28, 2000 (65 FR 39949), for the five-year period ending June 28, 2005. Wyle has submitted a request dated September 17, 2004 (see Exhibit 19-1) to renew its recognition again. This request falls within the allotted time period, and Wyle retains its recognition pending OSHA's final decision in this renewal process. WL later amended its request to delete certain test standards from its scope (see Exhibit 19-2), which have not been included in the listing of test standards shown below. In connection with the renewal, OSHA staff performed an on-site visit of the NRTL's site in February 2005. Based upon the on-site visit, the assessor recommended renewal of the WL recognition in a memo dated February 1, 2006 (see Exhibit 19-3). Processing of the renewal request has been delayed through no fault of the NRTL.

WL seeks renewal of its recognition for the one site that OSHA currently includes within the NRTL's scope. WL also seeks renewal of its recognition for continued testing and certification of products for demonstration of conformance to the following test standards:

UL 8 Water Based Agent Fire Extinguishers

UL 20 General-Use Snap Switches

UL 22 Amusement and Gaming Machines

UL 44 Thermoset-Insulated Wires and Cables

UL 45 Portable Electric Tools

UL 48 Electric Signs

UL 62 Flexible Cord and Fixture Wire

UL 65 Wired Cabinets

UL 67 Panelboards

UL 73 Motor-Operated Appliances

UL 83 Thermoplastic-Insulated Wires and Cables

UL 92 Fire Extinguisher and Booster Hose

UL 98 Enclosed and Dead-Front Switches

UL 153 Portable Electric Luminaires

UL 154 Carbon-Dioxide Fire Extinguishers

UL 187 X-Ray Equipment

UL 244A Solid-State Controls for Appliances

UL 299 Dry Chemical Fire Extinguishers

UL 363 Knife Switches

UL 393 Indicating Pressure Gauges for Fire-Protection Service

UL 429 Electrically Operated Valves

UL 444 Communications Cables

UL 466 Electric Scales

UL 467 Grounding and Bonding Equipment

UL 484 Room Air Conditioners

UL 486B Wire Connectors

UL 486C Splicing Wire Connectors

UL 486D Sealed Wire Connector Systems

UL 489 Molded-Case Circuit Breakers, Molded-Case Switches, and Circuit-Breaker Enclosures

UL 497A Secondary Protectors for Communications Circuits

UL 498 Attachment Plugs and Receptacles

UL 499 Electric Heating Appliances

UL 506 Specialty Transformers

UL 507 Electric Fans

UL 508 Industrial Control Equipment

UL 510 Polyvinyl Chloride, Polyethylene and Rubber Insulating Tape

UL 512 Fuseholders

UL 539 Single and Multiple Station Heat Alarms

UL 541 Refrigerated Vending Machines

UL 544 Medical and Dental Equipment

UL 626 Water Fire Extinguishers

UL 711 Rating and Fire Testing of Fire Extinguishers

UL 745-1 Portable Electric Tools

UL 745-2-1 Particular Requirements of Drills

UL 745-2-2 Particular Requirements for Screwdrivers and Impact Wrenches

UL 745-2-3 Particular Requirements for Grinders, Polishers, and Disk-Type Sanders

UL 745-2-4 Particular Requirements for Sanders

UL 745-2-5 Particular Requirements for Circular Saws and Circular Knives

UL 745-2-6 Particular Requirements for Hammers

UL 745-2-8 Particular Requirements for Shears and Nibblers

UL 745-2-9 Particular Requirements for Tappers

UL 745-2-11 Particular Requirements for Reciprocating Saws

UL 745-2-12 Particular Requirements for Concrete Vibrators

UL 745-2-14 Particular Requirements for Planers

UL 745-2-17 Particular Requirements for Routers and Trimmers

UL 745-2-30 Particular Requirements for Staplers

UL 745-2-31 Particular Requirements for Diamond Core Drills

UL 745-2-32 Particular Requirements for Magnetic Drill Presses

UL 745-2-33 Particular Requirements for Portable Bandsaws

UL 745-2-34 Particular Requirements for Strapping Tools

UL 745-2-35 Particular Requirements for Drain Cleaners

UL 745-2-36 Particular Requirements for Hand Motor Tools

UL 745-2-37 Particular Requirements for Plate Jointers

UL 796 Printed-Wiring Boards

UL 813 Commercial Audio Equipment

UL 817 Cord Sets and Power-Supply Cords

UL 845 Motor Control Centers

UL 854 Service-Entrance Cables

UL 863 Time-Indicating and -Recording Appliances

UL 916 Energy Management Equipment

UL 917 Clock-Operated Switches

UL 924 Emergency Lighting and Power Equipment

UL 943 Ground-Fault Circuit-Interrupters

UL 961 Electric Hobby and Sports Equipment

UL 977 Fused Power-Circuit Devices

UL 998 Humidifiers

UL 1004 Electric Motors

UL 1008 Transfer Switch Equipment

UL 1012 Power Units Other Than Class 2

UL 1018 Electric Aquarium Equipment

UL 1022 Line Isolation Monitors

UL 1028 Hair Clipping and Shaving Appliances

UL 1047 Isolated Power Systems Equipment

UL 1053 Ground-Fault Sensing and Relaying Equipment

UL 1054 Special-Use Switches

UL 1058 Halogenated Agent Extinguishing System Units

UL 1059 Terminal Blocks

UL 1066 Low-Voltage AC and DC Power Circuit Breakers Used in Enclosures

UL 1069 Hospital Signaling and Nurse-Call Equipment

UL 1077 Supplementary Protectors for Use in Electrical Equipment

UL 1091 Butterfly Valves for Fire-Protection Service

UL 1093 Halogenated Agent Fire Extinguishers

UL 1097 Double Insulation Systems for Use in Electrical Equipment

UL 1236 Battery Chargers for Charging Engine-Starter Batteries

UL 1244 Electrical and Electronic Measuring and Testing Equipment

UL 1254 Pre-Engineered Dry Chemical Extinguishing System Units

UL 1283 Electromagnetic Interference Filters

UL 1310 Class 2 Power Units

UL 1411 Transformers and Motor Transformers for Use in Audio-, Radio-, and Television-Type Appliances

UL 1412 Fusing Resistors and Temperature-Limited Resistors for Radio- and Television-Type Appliances

UL 1416 Overcurrent and Overtemperature Protectors for Radio- and Television-Type Appliances

UL 1424 Cables for Power-Limited Fire-Alarm Circuits

UL 1429 Pullout Switches

UL 1437 Electrical Analog Instruments—Panel Board Types

UL 1449 Transient Voltage Surge Suppressors

UL 1474 Adjustable Drop Nipples for Sprinkler Systems

UL 1481 Power Supplies for Fire-Protective Signaling Systems

UL 1486 Quick Opening Devices for Dry Pipe Valves for Fire-Protection Service

UL 1557 Electrically Isolated Semiconductor Devices

UL 1564 Industrial Battery Chargers

UL 1577 Optical Isolators

UL 1585 Class 2 and Class 3 Transformers

UL 1598 Luminaires

UL 1664 Immersion-Detection Circuit-Interrupters

UL 1673 Electric Space Heating Cables

UL 1682 Plugs, Receptacles, and Cable Connectors of the Pin and Sleeve Type

UL 1778 Uninterruptible Power Systems

UL 1863 Communications-Circuit Accessories

UL 1876 Isolating Signal and Feedback Transformers for Use in Electronic Equipment

UL 1995 Heating and Cooling Equipment

UL 2006 Halon 1211 Recovery/Recharge Equipment

UL 2111 Overheating Protection for Motors

UL 60950 Information Technology Equipment

UL 61010A-1 Electrical Equipment For Laboratory Use; Part 1: General Requirements *

* This standard is not presently in WL's scope of recognition but is comparable to UL 1262 Laboratory Equipment, which is in WL's scope but has been withdrawn by the standards developing organization. OSHA must delete a withdrawn standard from the scope of recognition of any NRTL because, once it has been withdrawn, a standard no longer meets the requirements for an “appropriate test standard” under 29 CFR 1910.7(c). In such cases, OSHA NRTL Program policy permits NRTLs to request, or OSHA to provide, recognition for comparable test standards, i.e., other appropriate test standards covering comparable product testing. In this notice, OSHA has deleted UL 1262 from the list above and added UL 61010A-1, in accordance with this policy. In the final notice for WL's expansion, OSHA would not only formally delete UL 1262 from the scope of recognition of WL but also from the scope of any other NRTL still recognized for this standard. OSHA would also add UL 61010A-1 to the scope of those NRTLs and to WL's scope.

UL 61010B-1 Electrical Measuring and Test Equipment; Part 1: General Requirements

The designations and titles of the above test standards were current at the time of the preparation of this notice.

OSHA's recognition of WL, or any NRTL, for a particular test standard is limited to equipment or materials (i.e., products) for which OSHA standards require third-party testing and certification before use in the workplace. Consequently, if a test standard also covers any product(s) for which OSHA does not require such testing and certification, an NRTL's scope of recognition does not include that product(s).

Many UL test standards also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Programs and Procedures

The renewal would include continued use by WL of the following supplemental programs, all of which are currently in its scope.

Program 2: Acceptance of testing data from independent organizations, other than NRTLs.

Program 3: Acceptance of product evaluations from independent organizations, other than NRTLs.

Program 4: Acceptance of witnessed testing data.

Program 5: Acceptance of testing data from non-independent organizations.

Program 6: Acceptance of evaluation data from non-independent organizations (requiring NRTL review prior to marketing).

Program 7: Acceptance of continued certification following minor modifications by the client.

Program 8: Acceptance of product evaluations from organizations that function as part of the International Electrotechnical Commission Certification Body (IEC-CB) Scheme.

Program 9: Acceptance of services other than testing or evaluation performed by subcontractors or agents.

In developing these programs, OSHA responded to industry requests and allowed certain of their ongoing practices to continue but in a manner controlled by OSHA criteria. In this sense, they are special conditions that the Agency places on an NRTL's recognition. OSHA does not consider these programs in determining whether an NRTL meets the requirements for recognition under 29 CFR 1910.7. However, these programs help to define the scope of that recognition.

Preliminary Finding on the Renewal

WL has submitted an acceptable request for renewal of its recognition as an NRTL. Our review of the application file, the assessor's memo, and other pertinent documents, indicates that WL can meet the requirements, as prescribed by 29 CFR 1910.7, for the renewal of the one site and the test standards and programs listed above. This preliminary finding does not constitute an interim or temporary approval of the application.

OSHA welcomes public comments, in sufficient detail, as to whether WL has met the requirements of 29 CFR 1910.7 for the renewal of its recognition as a Nationally Recognized Testing Laboratory. Your comments should consist of pertinent written documents and exhibits. Should you need more time to comment, you must request it in writing, including reasons for the request. OSHA must receive your written request for extension at the address provided above no later than the last date for comments. OSHA will limit any extension to 30 days, unless the requester justifies a longer period. We may deny a request for extension if it is not adequately justified. You may obtain or review copies of the Wyle request, the on-site review report, other pertinent documents, and all submitted comments, as received, by contacting the Docket Office, Room N-2625, Occupational Safety and Health Administration, U.S. Department of Labor, at the above address. Docket No. NRTL1-93 contains all materials in the record concerning the WL application.

The NRTL Program staff will review all timely comments and, after resolution of issues raised by these comments, will recommend whether to grant the WL renewal request. The Assistant Secretary will make the final decision on granting the renewal and, in making this decision, may undertake other proceedings that are prescribed in Appendix A to 29 CFR 1910.7. OSHA will publish a public notice of this final decision in the Federal Register.

Signed at Washington, DC this 9th day of August, 2006.
Edwin G. Foulke, Jr.,
Assistant Secretary.

[FR Doc. E6-13543 Filed 8-16-06; 8:45 am]

BILLING CODE 4510-26-P